DEPARTMENT OF AGRICULTURE

Submission for OMB Review; Comment Request, Correction

May 14, 2004.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Animal and Plant Health Inspection Service

Title: U.S. Origin Health Certificate.

OMB Control Number: 0579-0020.

Summary of Collection: As part of its mission to facilitate the export of U.S. animals and products, the U.S. Department of Agriculture, Animal and Plant Health Inspection Service (APHIS), Veterinary Services (VS), maintains information regarding the import health requirements of other countries for animals and animal products exported from the United States. Most countries require a certification that the animals are disease free. The VS form 17-140, U.S. Origin Health Certificate, is used to meet these requirements. The form is authorized by 21 U.S.C. 112.

Need and Use of the Information: The U.S. Origin Health Certificate is used in connection with the exportation of animals to foreign countries and is completed and authorized by APHIS veterinarian. The information collected is used to: (1) Establish that the animals are moved in compliance with USDA regulations, (2) verify that the animals destined for export are listed on the health certificate by means of an official identification, (3) verify to the consignor and consignee that the animals are health, (4) prevent health animals from being exported and (5) satisfy the import requirements of receiving countries. If these certifications were not provided, other countries would not accept animals from the United States.

Description of Respondents: Farms; Business or other for-profit; Federal Government.

Number of Respondents: 3,067.

Frequency of Responses: Reporting: On occasion.

Total Burden Hours: 22,554.

Animal and Plant Health Inspection Service

Title: Interstate Movement of Certain Tortoises.

OMB Control Number: 0579-0156.

Summary of Collection: The Animal and Plant Health Inspection Service (APHIS) regulates the importation and interstate movement of certain animals and animal products to prevent the introduction or dissemination of pests and diseases of livestock within the United States. The regulations in 9 CFR part 93 prohibit the importation of the leopard tortoise, the African spurred tortoise, and the Bell's hingeback tortoise to prevent the introduction and spread of exotic ticks known to be vectors of heartwater disease, an acute, infectious disease of cattle and other ruminants. The regulations in 9 CFR part 74 prohibit the interstate movement of those tortoises that are already in the United States unless the tortoises are accompanied by a health certificate or certificate of veterinary inspection.

Need and Use of the Information: APHIS will collect information to ensure that the interstate movement of these tortoises poses no risk of spreading exotic ticks within the United States. The collected information is used for the purposes of identifying each specific tortoise and documenting the State of its health so that the animals can be transported across State and national boundaries. If the information is not collected, APHIS would be forced to continue their complete ban on the interstate movement of leopard, African spurred, and Bell's hingeback tortoises.

Description of Respondents: State, Local or Tribal Government.

Number of Respondents: 150.

Frequency of Responses: Reporting: On occasion.

Total Burden Hours: 25.

Animal Plant and Health Inspection Service

Title: Health Certificate/Export Certificate-Animal Products.

OMB Control Number: 0579-NEW.

Summary of Collection: The export of agricultural commodities, including animals and animal products, is a major business in the United States and contributes to a favorable balance of trade. To facilitate the export of U.S. animals and products, the U.S. Department of Agriculture, Animal and Plant Health Inspection Service (APHIS), Veterinary Services maintains information regarding the import health requirements of other countries for animals and animal products exported from the United States. Many countries that import animal products from the United States require a certification from APHIS that the United States is free of certain diseases. These countries may also require that our certification statement contain additional declarations regarding the U.S. animal products being exported. Form VS-16-4, Health Certificate-Export Certificate-Animal Products, is used to meet these requirements. Regulations pertaining to export certification of animals and animal products are contained in 9 CFR parts 91 and 156.

Need and Use of the Information: Form VS 16-4 serves as the official certification that the United States is free of rinderpest, foot-and-mouth disease, classical swine fever, swine vesicular disease, African swine fever, bovine fever, bovine spongiform encephalopathy, and contagious bovine pleuropneumia. APHIS will collect the about the exporter, type of product exported, and type of conveyance (ship, train, truck) that will transport the products. Without the information, many countries would not accept animal products from the United States, creating a serious trade imbalance and adversely affecting U.S. exporters.

Description of Respondents: Individuals or households; Business or other-for-profit; Federal Government.

Number of Respondents: 30,000.

Frequency of Responses: Reporting: On occasion.

Total Burden Hours: 60,000.

Forest Service

Title: Interpretive Services at Ancient Bristlecone Pine Forest in the Inyo National Forest.

OMB Control Number: 0596-NEW.

Summary of Collection: Pub. L. 95-307 directs the Secretary of Agriculture to research the multiple uses and products, including recreation of forest and rangeland so as to facilitate their most effective use. As part of Forest Service's (FS) continuing research effort to develop and try alternative approaches for evaluating recreational services on public lands, this information collection will focus entirely on visitors to the Ancient Bristlecone Pine Forest in the Inyo National Forest of California, which is an important tourist destination. The information collected will help forest managers better understand how and why visitors use the interpretive opportunities provided and ways to improve service delivery. FS researchers will use three methods to collect information: (1) On-site observation of site use, (2) an interview, or (3) a self-administered written questionnaire.

Need and Use of the Information: FS will collect information about the following: (1) Visitors' use of interpretation and resource information services, (2) basic visitors' demographic characteristics, (3) visitors' motive, needs, and expectations for the visit, (4) visitors' motives, needs, and preferences for interpretive services, (5) the overall effectiveness of interpretive services, (6) how visitors obtain information about the Ancient Bristlecone Pine Forest and what types of information they desire or prefer, (7) ways to develop effective new or different educational programs, and (8) satisfaction levels. Results will be provided to resource managers in the areas studied, as well as to managers across the United States, to enable more effective management of these lands.

Description of Respondents: Individual or households.

Number of Respondents: 1,000.

Frequency of Responses: Reporting: On occasion.

Total Burden Hours: 333.

Food Safety and Inspection Service

Title: Advanced Meat Recovery Systems.

OMB Control Number: 0583-0130.

Summary of Collection: The Food Safety and Inspection Service (FSIS) has been delegated the authority to exercise the functions of the Secretary as provided in the Federal Meat Inspection Act (FMIA) (21 U.S.C. 601 et seq.) and the Poultry Products Inspection Act (PPIA) (21 U.S.C. 451 et seq.). These statutes mandate that FSIS protect the public by ensuring that meat and poultry products are safe, wholesome, unadulterated, and properly labeled and packaged. FSIS requires that official establishments that produce meat from Advanced Meat Recovery (AMR) systems assess the age of cattle product used in the system, document their testing protocols and procedures for handling product in a manner that does not cause the product to be misbranded or adulterated, and maintain records of their documentation and test results.

Need and Use of the Information: FSIS will collect information from establishments to ensure that the meat product produced by the use of AMR systems is free from Bovine Spongiform Encephalopathy.

Description of Respondents: Business or other for-profit.

Number of Respondents: 56.

Frequency of Responses: Recordkeeping; Reporting: Other (Daily).

Total Burden Hours: 25,256.

Rural Business Service

Title: 7 CFR 4284-G, Rural Business Opportunity Grants.

OMB Control Number: 0570-0024.

Summary of Collection: The Rural Business Opportunity Grant (RBOG) program was authorized by section 741 of the Federal Agriculture Improvement and Reform Act of 1996, Public Law 104-127. 7 CFR 4284-G provides the detailed program regulations and requirements for reporting and application procedures for grant recipients. The objective of the RBOG program is to promote sustainable economic development in rural areas. This purpose is achieved through grants made by the Rural Business Cooperative Service (RBS) to public and private non-profit organizations and cooperatives to pay costs of economic development planning and technical assistance for rural businesses.

Need and Use of the Information: The information collected is from grant applicants and recipients. Grantees should keep complete and accurate accounting records as evidence that the grant funds were used properly. The information is necessary for RBS to process applications in a responsible manner, make prudent program decisions, and effectively monitor the grantees' activities to ensure that funds obtained from the Government are used appropriately.

Description of Respondents: Not-for-profit institutions; State, Local or Tribal Government.

Number of Respondents: 210.

Frequency of Responses: Recordkeeping: Reporting: On occasion; Quarterly; Monthly.

Total Burden Hours: 16,275.

Sondra Blakey,
Departmental Information Collection Clearance Officer.

[FR Doc. 04-11379 Filed 5-19-04; 8:45 am]

BILLING CODE 3410-01-M